Title 3—

The President

Proclamation 7563 of May 17, 2002

National Safe Boating Week, 2002

By the President of the United States of America

A Proclamation

America is blessed with beautiful coastlines, lakes, and waters that offer ample opportunities for boating recreation. More than 70 million recreational boaters use our waters every year and boat registrations continue to increase. Although the number of recreational boats and boaters is growing, the incidence of boating deaths continues to drop, thanks to an increasing emphasis on safety.

Despite this positive trend, much work remains to further reduce boating accidents and fatalities. National Safe Boating Week and the North American Safe Boating Campaign remind us that safety must always remain a top priority when boating on our Nation's waterways.

To further reduce boating deaths, it is vital that both children and adults wear life jackets while boating. Nearly 70 percent of recreational boating deaths are by drowning, and nearly 90 percent of these victims were not wearing life jackets. Many of these fatalities could have been avoided had a Coast Guard-approved life jacket or personal flotation device been worn. Thanks to new technology and designs, life jackets are now less burdensome to wear.

Another major cause of boating accidents is the operation of boats while drunk or otherwise impaired. Boating under the influence of alcohol or drugs is illegal in every State and is a violation of Federal law. According to the United States Coast Guard, the dangerous effects of alcohol on persons operating boats are even greater than for individuals operating land vehicles. The additional factors that can further impair judgment and coordination include motion, vibration, engine noise, wind, sun, and any spray. Boat operators with a blood alcohol concentration above .10 percent are ten times more likely to be killed in a boating accident than boat operators who have not been drinking. During National Safe Boating Week, we must underscore again that to operate a boat or any vehicle while under the influence is never safe.

A less recognized boating hazard involves a silent killer: carbon monoxide. Dangerous or deadly fumes can accumulate in confined spaces on boats, near stern ladders, and under swimming platforms. Swimmers and water-skiers behind running boat engines face the greatest risk of exposure to exhaust fumes, which can build up to deadly levels. Boaters should be aware of the threats posed by carbon monoxide and take steps to avoid them. Individuals may learn more about carbon monoxide and other ways to stay safe while boating by visiting the U.S. Coast Guard's website at www.uscgboating.org.

In recognition of the importance of safe boating practices, the Congress, by joint resolution approved June 4, 1958 (36 U.S.C. 131), as amended, has authorized and requested the President to proclaim annually the 7-day period prior to Memorial Day weekend as “National Safe Boating Week.”

NOW, THEREFORE, I, GEORGE W. BUSH, President of the United States of America, do hereby proclaim May 18 through May 24, 2002, as National Safe Boating Week. I encourage the Governors of the 50 States, the District of Columbia, the Commonwealth of Puerto Rico, and the officials of other areas subject to the jurisdiction of the United States, to join in observing this occasion. I also urge boaters to learn about proper boating practices and to take advantage of programs offered by the U.S. Coast Guard Auxiliary. By taking sensible precautions on the water and learning more about potential dangers, boaters can enjoy boating recreation and help ensure the safety of others.

IN WITNESS WHEREOF, I have hereunto set my hand this seventeenth day of May, in the year of our Lord two thousand two, and of the Independence of the United States of America the two hundred and twenty-sixth.

B

[FR Doc. 02-13029

Filed 5-21-01; 8:45 am]

Billing code 3195-01-P